NATIONAL SCIENCE FOUNDATION

Advisory Committee for Education and Human Resources Notice of Meeting

In accordance with the Federal Advisory Committee Act (Pub. L. 92-463, as amended), the National Science Foundation (NSF) announces the following meeting:

Name and Committee Code: Advisory Committee for Education and Human Resources (#1119) (Virtual Meeting).

Date and Time: October 28-29, 2020; 1:00 p.m.-5:30 p.m. daily.

Place: National Science Foundation, 2415 Eisenhower Avenue, Alexandria, VA 22314.

To attend the virtual meeting, all visitors must contact the Directorate for Education and Human Resources at least 48 hours prior to the meeting. The final meeting agenda with instructions to register for the meeting will be posted to: https://www.nsf.gov/ehr/advisory.jsp.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Nafeesa Owens, National Science Foundation, 2415 Eisenhower Avenue, Room C11000, Alexandria, VA 22314; (703) 292-8600; ehr_ac@nsf.gov.

Purpose of Meeting: To provide advice with respect to the Foundation's science, technology, engineering, and mathematics (STEM) education and human resources programming.

Agenda

October 28, 2020; 1:00 p.m.-5:30 p.m.

• Welcoming Remarks from the EHR AC Chair & the EHR Assistant Director

• Session 1: Improve Stem Learning & Learning Environments

• Session 2: Broadening Participation Panel

• Session 3: Enhance Broadening Participation

October 29, 2020; 1:00 p.m.-5:30 p.m.

• Session 4: Prepare the Future Stem Workforce

• Session 5: The Future of EHR

• Discussions with NSF Leadership and Closing Remarks

Dated: September 25, 2020.
Crystal Robinson,
Committee Management Officer.

[FR Doc. 2020-21665 Filed 9-30-20; 8:45 am]

BILLING CODE 7555-01-P